DEPARTMENT OF ENERGY

Federal Energy Regulatory Commission

[Docket No. EG04-94-000, et al.]

PSEG Generation y Energia Chile Limitada, et al.; Electric Rate and Corporate Filings

August 17, 2004.

The following filings have been made with the Commission. The filings are listed in ascending order within each docket classification.

1. PSEG Generacion y Energia Chile Limitada

[Docket No. EG04-94-000]

Take notice that on August 12, 2004, PSEG Generacion y Energia Chile Limitada (PSEG Generacion) filed with the Federal Energy Regulatory Commission an application for determination of exempt wholesale generator status pursuant to part 365 of the Commission's regulations.

PSEG Generacion states that it is a company organized under the laws of Chile. PSEG Generacion states that it will be engaged, directly or indirectly through an affiliate, exclusively in owning and/or operating certain diesel generation sets with a total output of approximately 29.5 megawatts. PSEG Generacion states that it will sell electric energy at wholesale from these facilities, with retail sales, if any, to customers in Chile.

PSEG Generacion states that a copy of this application has been served on the Secretary of the Securities and Exchange Commission and the Secretary of the New Jersey Board of Public Utilities, the only affected State Commission.

Comment Date: 5 p.m. eastern time on September 2, 2004.

2. Duke Power, a division of Duke Energy Corporation

[Docket No. ER96-110-010]

Take notice that, on August 11, 2004, Duke Power, a division of Duke Energy Corporation, (Duke Power) submitted a compliance filing pursuant to the Commission's order issued May 13, 2004 in Docket No. ER02-1406-001, et al., Acadia Power Partners, LLC, 107 FERC ¶ 61,168 (2004). Duke Power states that the filing is an update to the triennial market power analysis previously submitted in this proceeding and complies with the Commission's new policies on such analyses.

Duke Power states that copies of the filing were served on parties on the official service list in the above-captioned proceeding as well as its State commissions.

Comment Date: 5 p.m. eastern time on September 1, 2004.

3. Public Service Company of New Mexico

[Docket Nos. ER96-1551-007 and ER01-615-004]

Take notice that on August 11, 2004, Public Service Company of New Mexico (PNM) tendered for filing a revised generation market power study, in compliance with the Commission's order issued May 13, 2004 in Docket No. ER02-1406-001, et al., Acadia Power Partners, LLC, 107 FERC ¶ 61,168 (2004). PNM also submitted a notification of a change in status as a result of its proposed acquisition of TNP Enterprises Inc.

PNM states that copies of the filing were served on parties on the official service lists in the above-captioned proceedings.

Comment Date: 5 p.m. eastern time on September 1, 2004.

4. Duke Energy Morro Bay LLC,Duke Energy Moss Landing LLC,Duke Energy Oakland LLC,Duke Energy South Bay LLC

[Docket Nos. ER98-2681-007,ER98-2680-007, ER98-2682-007, ER99-1785-006]

Take notice that, on August 11, 2004, Duke Energy Morro Bay LLC, Duke Energy Moss Landing LLC, Duke Energy Oakland LLC and Duke Energy South Bay LLC (collectively, the Duke California Companies) submitted a compliance filing pursuant to the Commission's order issued May 13, 2004 in Docket No. ER02-1406-001, et al., Acadia Power Partners, LLC, 107 FERC ¶ 61,168 (2004). Acadia Power Partners LLC, 107 FERC ¶ 61,168 (2004).

Duke California Companies state that copies of the filing were served on parties on the official service list in the above-captioned proceeding.

Comment Date: 5 p.m. eastern time on September 1, 2004.

5. Bridgeport Energy, LLC

[Docket No. ER98-2783-006]

Take notice that on August 11, 2004, Bridgeport Energy, LLC (Bridgeport Energy) submitted a compliance filing, its triennial market power report, pursuant to the Commission's order issued June 24, 1998 in Docket No. ER98-2783-000, 83 FERC ¶ 61,307 (1998).

Bridgeport Energy states that copies of the filing were served on parties on the official service list in the above-captioned proceeding.

Comment Date: 5 p.m. eastern time on September 1, 2004.

6. Consumers Energy Company

[Docket No. ER98-4421-003]

Take notice that on August 11, 2004, Consumers Energy Company (Consumers) submitted a compliance filing pursuant to the Commission's order issued May 13, 2004 in Docket No. ER02-1406-001, et al., Acadia Power Partners, LLC, 107 FERC ¶ 61,168 (2004). Consumers states that the filing is a revised generation market analysis.

Consumers state that a copy of the filing was served upon the Michigan Public Service Commission and those on the official service list in Docket No. ER98-4221.

Comment Date: 5 p.m. eastern time on September 1, 2004.

7. Puget Sound Energy, Inc.

[Docket No. ER99-845-004]

Take notice that on August 11, 2004, Puget Sound Energy, Inc. (Puget) filed with the Commission a revised generation market power analysis pursuant to the Commission's order issued May 13, 2004 in Docket No. ER02-1406-001, et al., Acadia Power Partners, LLC, 107 FERC ¶ 61,168 (2004).

Comment Date: 5 p.m. eastern time on September 1, 2004.

8. Kansas City Power and Light Company. Great Plains Power, Inc

[Docket Nos. ER99-1005-002 and ER02-725-003]

Take notice that, on August 11, 2004, Kansas City Power and Light Company, (KCPL) on behalf of itself and Great Plains Power Inc., submitted a compliance filing pursuant to the Commission's order issued May 13, 2004 in Docket No. ER02-1406-001, et al., Acadia Power Partners, LLC, 107 FERC ¶ 61,168 (2004). KCPL also filed updated Tariff Sheets to reflect the language of the Commission's new Market Behavior Rules adopted by the Commission on November 17, 2003 in 105 FERC ¶ 61,218 (2003).

Comment Date: 5 p.m. eastern time on September 1, 2004.

9. El Paso Electric Company

[Docket No. ER99-2416-002]

Take notice that on August 11, 2004, El Paso Electric Company (EPE) submitted a compliance filing pursuant to the Commission's order issued May 13, 2004 in Docket No. ER02-1406-001, et al., Acadia Power Partners, LLC, 107 FERC ¶ 61,168 (2004). EPE states that the filing is its revised market-based rate tariff three-year update filing. EPE states that copies of the filing were served upon the customers under its Tariff, the New Mexico Public Regulation Commission and the Public Utility Commission of Texas.

Comment Date: 5 p.m. eastern time on September 1, 2004.

10. Pinnacle West Capital Corporation, Arizona Public Service Company,Pinnacle West Energy Corporation, APS Energy Services Company, Inc

[Docket Nos. ER00-2268-005,ER99-4124-003, ER00-3312-004, ER99-4122-006]

Take notice that on August 11, 2004, Pinnacle West Capital Corporation (PWCC), Arizona Public Service Company, Pinnacle West Energy Corporation and APS Energy Services Company, Inc. (collectively, the Pinnacle West Companies), submitted a compliance filing pursuant to the Commission's order issued May 13, 2004 in Docket No. ER02-1406-001, et al., Acadia Power Partners, LLC, 107 FERC ¶ 61,168 (2004). The Pinnacle West Companies state that the filing is an amendment to their three-year market-based rate review. The Pinnacle West Companies also submitted revisions to their market-based rate tariffs to include the Market Behavior Rules adopted by the Commission in the order issued November 17, 2003 in Docket No. EL01-118.

Comment Date: 5 p.m. eastern time on September 1, 2004.

11. Volunteer Energy Services, Inc.

[Docket No. ER04-937-002]

Take notice that on August 11, 2004 Volunteer Energy Services, Inc. (VESI) submitted an amendment to its June 17, 1004 filing, as previously amended on July 19, 2004, for acceptance of an initial rate schedule, and approval of waivers and blanket authority.

Comment Date: 5 p.m. eastern time on September 1, 2004.

12. Pythagoras Global Investors L.P.

[Docket No. ER04-1113-000]

Take notice that on August 11, 2004, Pythagoras Global Investors L.P. (Pythagoras) petitioned the Commission for acceptance of its proposed FERC Rate Schedule No. 1 for market-based rates; approval of requests for waiver of certain requirements under subparts B and C of part 35 of the regulations, and the granting of blanket approvals normally accorded sellers permitted to sell at market-based rates. Pythagoras requests an effective date of October 1, 2004.

Comment Date: 5 p.m. eastern time on September 1, 2004.

13. ISO New England Inc., et al., Bangor Hydro-Electric Company, et al., The Consumers of New England v. New England Power Pool

[Docket Nos. RT04-2-003, ER04-116-003, ER04-157-007 and EL01-39-003]

Take notice that on August 11, 2004, ISO New England Inc and the New England Transmission Owners (ISO) submitted a report in compliance with the Commission's March 24, 2004 in Docket No. RT04-2-000, et al., 106 FERC ¶ 61,280 (2004).

ISO states that copies of the filing have been served upon all parties to this proceeding, upon all NEPOOL Participants (electronically), non-Participant Transmission Customers, and the governors and regulatory agencies of the six New England states.

Comment Date: 5 p.m. eastern time on September 1, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Acting Secretary.

[FR Doc. E4-1882 Filed 8-23-04; 8:45 am]

BILLING CODE 6717-01-P